DEPARTMENT OF ENERGY

Federal Energy Regulatory Commission

[Docket No. EL20-8-000]

NTE Carolinas II, LLC and NTE Energy, LLC; Notice of Petition for Declaratory Order

Take notice that on November 8, 2019, pursuant to Rule 207 of the Federal Energy Regulatory Commission's (Commission) Rules of Practice and Procedure, 18 CFR 385.207(a)(2) (2019), NTE Carolinas II, LLC and NTE Energy LLC (collectively Petitioners), filed a petition for a declaratory order requesting the Commission to declare: (1) That the Commission possesses exclusive jurisdiction over the cancellation of filed rates; (2) that after exhausting dispute resolution provisions in a Large Generator Interconnection Agreement (LGIA), a Transmission Provider seeking to terminate a conforming LGIA over the Interconnection Customer's objection must file a notice of termination with the Commission under section 205 of the Federal Power Act and have that notice accepted before the agreement can be terminated; and (3) that a Transmission Provider may publicly indicate on its Open Access Same-Time Information System and in its Electric Quarterly Report that an interconnection request has been canceled and LGIA terminated, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioners.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on December 9, 2019.

Dated: November 13, 2019.
Kimberly D. Bose,
Secretary.

[FR Doc. 2019-25016 Filed 11-18-19; 8:45 am]

BILLING CODE 6717-01-P